DEPARTMENT OF COMMERCE

National Oceanic and Atmospheric Administration

RIN 0648-XC197

Fisheries of the Northeastern United States; Tilefish Fishery; 2013 Tilefish Fishing Quota Specification

AGENCY: National Marine Fisheries Service (NMFS), National Oceanic and Atmospheric Administration (NOAA), Commerce.

ACTION: Notice.

SUMMARY: NMFS announces that the overall annual tilefish quota for the 2013 fishing year (November 1, 2012-October 31, 2013) will remain the same as it was in fishing year 2012. NMFS is required to notify the public of the overall annual quota levels for tilefish if the previous year's quota specifications remain unchanged. This document also provides notice of tilefish specifications recently adopted by the Mid-Atlantic Fishery Management Council.

FOR FURTHER INFORMATION CONTACT: Jason Berthiaume, Fishery Management Specialist, (978) 281-9177; fax (978) 281-9135.

SUPPLEMENTARY INFORMATION: The tilefish regulations at § 648.292 specify that NMFS notify the public in the Federal Register of the overall annual quota levels for tilefish if the previous year's quota specifications remain unchanged. The tilefish total allowable landings (TAL) for the 2013 fishing year will remain the same as the fishing year 2012 TAL of 1.995 million lb (904,917 kg). Five percent of the TAL (99,750 lb (45,246 kg)) is allocated to incidental catch, leaving 1,895,250 lb (859,671 kg) allocated to Individual Fishing Quota (IFQ) holders.

This document also announces tilefish specifications recently adopted by the Mid-Atlantic Fishery Management Council (Council). At the April 2012 Council meeting, the Council adopted specifications for an acceptable biological catch (ABC), annual catch limit (ACL), and annual catch target (ACT). These specifications are consistent with the overall quota and rebuilding schedule that was established in Amendment 1 to the Golden Tilefish Fishery Management Plan. The adopted specifications also comply with the Council's annual catch limits and accountability measures omnibus amendment (76 FR 60606; September 29, 2011).

Table 1—2013 Tilefish Quotas and Specifications
Specification | Pounds | Kilograms
ABC | 2,013,000 | 913,081
ACL | 2,013,000 | 913,081
ACT | 2,013,000 | 913,081
TAL | 1,995,000 | 904,917
Incidental quota | 99,750 | 42,246
IFQ quota | 1,895,250 | 859,671

Authority: 16 U.S.C. 1801 et seq.

Dated: October 10, 2012.
Emily H. Menashes,
Deputy Director, Office of Sustainable Fisheries, National Marine Fisheries Service.

[FR Doc. 2012-25285 Filed 10-12-12; 8:45 am]

BILLING CODE 3510-22-P